DEPARTMENT OF THE INTERIOR

Bureau of Land Management

[20X LLUT912000 L13140000.PP0000]

Notice of Public Meeting, Utah Resource Advisory Council, Utah

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) Utah Resource Advisory Council (RAC) will meet as indicated below.

DATES: The Utah RAC is scheduled to meet on Nov. 9-10, 2020. The meeting will take place from 1 p.m. to 5:15 p.m. on Nov. 9, and from 8:30 a.m. to 2:30 p.m. on Nov. 10. A virtual meeting platform and/or teleconference may substitute an in-person meeting.

ADDRESSES: The meeting will be held at the Carbon County Event Center, 450 South Fairgrounds Way, Price, Utah 84501. Written comments to address the Utah RAC may be sent to the BLM Utah State Office, 440 West 200 South, Suite 500, Salt Lake City, Utah 84101, or via email to BLM_UT_External_Affairs@blm.gov with the subject line “Utah RAC Meeting.”

FOR FURTHER INFORMATION CONTACT: Lola Bird, Public Affairs Specialist, BLM Utah State Office, 440 West 200 South, Suite 500, Salt Lake City, Utah 84101; phone (801) 539-4033; or email lbird@blm.gov. Persons who use a telecommunications device for the deaf (TDD) may call the Federal Relay Service (FRS) at (800) 877-8339 to leave a message or question for the above individual. The FRS is available 24 hours a day, 7 days a week. Replies are provided during normal business hours.

SUPPLEMENTARY INFORMATION: The Utah RAC provides recommendations to the Secretary of the Interior, through the BLM, on a variety of public lands issues. Agenda topics will include: BLM Utah updates and priorities for Fiscal Year 2021; overview of BLM advisory committees in Utah and discussion of the Utah Resource Advisory Council's role regarding other advisory committees; Special Recreation Permit Program overview; 2020 fire season; Color Country District planning updates; Fivemile Pass Recreation Area Business Plan; Manti-La Sal National Forest Recreation Fee Proposals; Lands and Realty Program updates; and other issues as appropriate. The final agenda and meeting information will be posted on the Utah RAC web page 30 days before the meeting at https://www.blm.gov/get-involved/resource-advisory-council/near-you/utah/RAC.

The meeting is open to the public; however, transportation, lodging, and meals are the responsibility of the participating individuals. The Utah RAC will offer two 30-minute public comment periods. Depending on the number of people wishing to comment and the time available, the amount of time for individual oral comments may be limited. Written comments may also be sent to the BLM Utah State Office at the address listed in the ADDRESSES section of this notice. All comments received will be provided to the Utah RAC.

Public Disclosure of Comments: Before including your address, phone number, email address, or other personal identifying information in your comment, you should be aware that your entire comment—including your personal identifying information—may be made publicly available at any time. While you can ask us in your comment to withhold your personal identifying information from public review, we cannot guarantee that we will be able to do so.

Detailed meeting minutes for the Utah RAC meeting will be maintained in the BLM Utah State Office and will be available for public inspection and reproduction during regular business hours within 90 days following the meeting. Minutes will also be posted to the Utah RAC web page.

Authority: 43 CFR 1784.4-2.

Gregory Sheehan,
State Director.

[FR Doc. 2020-21999 Filed 10-5-20; 8:45 am]

BILLING CODE 4310-DQ-P